DEPARTMENT OF ENERGY

Federal Energy Regulatory Commission

[Project No. 13116-000]

Mississippi River 14 Hydro, LLC; Notice of Competing Preliminary Permit Application Accepted for Filing, and Soliciting Comments, and Motions To Intervene

September 25, 2008.

On February 15, 2008, Mississippi River 14 Hydro, LLC and BPUS Generation Development, LLC each filed a competing application, pursuant to section 4(f) of the Federal Power Act, proposing to study the feasibility of the Mississippi River Lock and Dam No. 14 Hydroelectric Project, to be located at the U.S. Army Corps of Engineers' Mississippi Lock and Dam No. 14, on the Mississippi River in Rock Island County and Scott County, Illinois.

Mississippi River 14 Hydro, LLC's proposed project would utilize the existing U.S. Army Corps of Engineers' Mississippi Lock and Dam No. 14 and would consist of: (1) A proposed powerhouse containing three generating units with an installed capacity of 26-megawatts; (2) a switchyard; (3) a proposed 1-mile, 69-kV transmission line; and (4) appurtenant facilities. The proposed Mississippi River Lock and Dam 14 Hydroelectric Project would have an estimated annual generation of approximately 139-gigawatt-hours, which would be sold to a local utility.

Applicant Contact: For Mississippi River 14 Hydro, LLC, Mr. Brent L. Smith, COO, Symbiotics, LLC, P.O. Box 535, Rigby, ID 83442, phone: (208) 745-0834.

FERC Contact: Patricia W. Gillis, (202) 502-8735.

Competing Application: This application competes with Project No. 13115-000 filed February 15, 2008. Competing applications were required to be filed on or before July 10, 2008.

Deadline for filing comments, motions to intervene: 60 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13116-000) in the docket number field to access the document. For assistance, call toll-free 1-866-208-3372.

Kimberly D. Bose,
Secretary.

[FR Doc. E8-23067 Filed 9-30-08; 8:45 am]

BILLING CODE 6717-01-P